DEPARTMENT OF AGRICULTURE

Commodity Credit Corporation

Natural Resources Conservation Service

[Docket No. NRCS-2018-0001]

Notice of Request for an Extension of Existing Information Collection Package

AGENCY: Natural Resources Conservation Service (NRCS) and the Commodity Credit Corporation (CCC), United States Department of Agriculture (USDA).

ACTION: Notice and request for comments.

SUMMARY: In accordance with the Paperwork Reduction Act of 1995, this notice announces that NRCS will request an extension for a currently approved information collection for long-term contracting forms.

DATES: Comments must be received 60 days after publication in the Federal Register to be assured of consideration.

FOR FURTHER INFORMATION CONTACT: Kim Berns, Easement Programs Division, Room 5241-S, U.S. Department of Agriculture, 1400 Independence Ave. SW, Washington, DC 20250; telephone (202) 720-5074.

SUPPLEMENTARY INFORMATION:

Title: Long-Term Contracting.

OMB Number: 0578-0013.

Expiration Date of Approval: 3 years from approval date.

Type of Request: Extension of a currently approved information collection.

Abstract: The primary objective of NRCS is to work in partnership with the American people and the farming and ranching community to protect, conserve, and sustain our Nation's natural resources on privately owned land. The purpose of the long-term contracting information collection is to allow for programs to provide Federal technical and financial cost-sharing assistance through long-term contracts to eligible producers, landowners, and entities. These long-term contracts provide for making land use changes and installing conservation measures and practices to protect, conserve, develop, and use the soil, water, and related natural resources on private lands. Under the terms of the agreement, the participant agrees to apply, or arrange to apply the conservation treatment specified in the conservation plan. In return for this agreement, Federal financial assistance payments are made to the land user, or third party, upon successful application of the conservation treatment. Additionally, NRCS purchases easements for the long term protection of the property and provides for the protection and management of the property for the life of the easement.

The information collected through this package is used by NRCS to ensure the proper use of program funds. The conservation programs in this information collection that are subject to the requirements of the Paperwork Reduction Act are listed in Table A. No changes or adjustments are proposed at this time; this notice is limited to the request for an extension of the currently approved information collection package used by NRCS for long-term contracting for the programs listed in Table A. Table B shows the burden for those programs subject to the requirements of the Paperwork Reduction Act.

Table A—Conservation Programs Subject to the Requirements of the Paperwork Reduction Act
Program | Description
Emergency Conservation Program (ECP) (7 CFR part 701) | USDA Farm Service Agency's ECP provides emergency funding and technical assistance for farmers and ranchers to rehabilitate farmland damaged by natural disasters and for carrying out emergency water conservation measures in periods of severe drought. Funding for ECP is appropriated by Congress.
Emergency Watershed Program (EWP) (7 CFR part 624) | The EWP was initiated in 1950 and is administered by NRCS. It provides technical and financial assistance to local institutions for the removal of storm and flood debris from stream channels and for the restoration of stream channels and levees to reduce the threat to life and property. The program also provides for establishing permanent easements in floodplains with private landowners.
Healthy Forests Reserve Program (HFRP) (7 CFR part 625) | HFRP is a voluntary program established for the purpose of restoring and enhancing forest ecosystems to: (1) Promote the recovery of threatened and endangered species; (2) improve biodiversity; and (3) enhance carbon sequestration. The HFRP was signed into law as part of the Healthy Forests Restoration Act of 2003 and amended by the 2008 Act. The Agricultural Act of 2014 made minor changes to HFRP land eligibility and funding.
Resource Conservation and Development Program (RC&D) | The RC&D was initiated in 1962 and was administered by NRCS. Through this program, NRCS assisted multi-county areas in enhancing conservation, water quality, wildlife habitat, recreation, and rural development. The program provided technical and limited financial assistance for the planning and installation of approved projects.
Watershed Protection and Flood Prevention Program (WRFPP) (7 CFR part 622) | The WPFPP, otherwise known as P.L. 566, was initiated in 1954 and is administered by NRCS. It assists State and local units of government in flood prevention, watershed protection, and water management. Part of this effort involves the establishment of conservation practices on private lands to reduce erosion, sedimentation, and runoff.

Table B—Burden for Required Programs Under the Paperwork Reduction Act
Form | Purpose | Program(s) | * Number submitted annually
AD-1153 | Application | EWP, WPFPP, HFRP | 750; Estimated time per participant is .30 per response.
AD-1154 | Contract or Agreement | EWP, HFRP | 150; Estimated time per participant is .37 per response.
AD-1155 AD-1155A | Schedule of Practices/Costs and signature sheet | EWP, WPFPP, HFRP | 300; Estimated time per participant is .373 per response.
AD-1156 | Schedule Modification | EWP, WPFPP, HFRP | 25; Estimated time per participant is .375 per response.
AD-1157 | Option Agreement to Purchase | EWP, HFRP | 170; Estimated time per participant is .40 per response.
AD-1157A | Option Agreement to Purchase Amendment | EWP, HFRP | 170; Estimated time per participant is .40 per response.
AD-1158 | Subordination Agreement and Limited Lien Waiver | EWP, HFRP | 100; Estimated time per participant is .495 per response.
AD-1159 | Notice of Intent to Continue | Not used by any non-exempt programs |
AD-1160 | Compatible Use Authorization | EWP, HFRP | 200; Estimated time per participant is .40 per response.
AD-1161 | Application for Payment | CTA, WPFPP, HFRP | 200; Estimated time per participant is .30 per response.
NRCS-CPA-68 | Conservation Plan | EWP, WPFPP, HFRP | 2,700; Estimated time per participant is .75 per response.
NRCS-LTP-13 | Status/Contract Review | EWP, HFRP | 250; Estimated time per participant is .375 per response.
NRCS-LTP-20, NRCS-CPA-260 | Warranty Easement Deed, Conservation Easement Deed | HFRP | 170; Estimated time per participant is .40 per response.
NRCS-LTP-70 | Agreement for the Purchase of Conservation Easement | EWP | 50; Estimated time per participant is .69 per response.
NRCS-LTP-80 | Agreement for the Purchase of Conservation Easement. | EWP, HFRP | 120; Estimated time per participant is .69 per response.
NRCS-LTP-151 | Contract Violation Notification | EWP, HFRP | 20; Estimated time per participant is .495 per response.
NRCS-LTP-152 | Transfer Agreement | EWP, HFRP | 5; Estimated time per participant is .495 per response.
NRCS-LTP-153 | Agreement Covering Non-Compliance With Provisions of the Contract | EWP, HFRP | 10; Estimated time per participant is 1.5 per response.

Estimate of Burden: Public reporting burden for this collection of information is estimated to average 0.30 to 1.5 hours per response.

Type of Respondents: Program participants.

Estimated Number of Respondents: 5,390.

Estimated Number of Responses: 5,390.

Estimated Number of Responses per Respondent: 1.

Estimated Total Annual Burden on Respondents: 3,058.70 hours.

Comments are invited on: (1) Whether the proposed collection of information is necessary for the proper performance of the functions of the agency, including whether the information will have practical utility, (2) the accuracy of the agency's estimate of the burden of the proposed collection of information including the validity of the methodology and assumptions used, (3) ways to enhance the quality, utility, and clarity of the information to be collected, and (4) ways to minimize the burden of the collection of information on those who are to respond, including the use of appropriate automated, electronic, mechanical, or other technological collection techniques or other forms of information technology. Comments may be sent to Kim Berns, Natural Resources Conservation Service, Easement Programs Division, 1400 Independence Ave. SW, Room 5241-S, Washington, DC 20250. All comments received will be available for public inspection during regular business hours at the same address.

All responses to this notice will be summarized and included in the request for Office of Management and Budget approval. All comments will become a matter of public record.

Signed this day of January 18, 2018, in Washington, DC.
Leonard Jordan,
Acting Chief, Natural Resources Conservation Service and Vice President, Commodity Credit Corporation.

[FR Doc. 2018-02329 Filed 2-5-18; 8:45 am]

BILLING CODE 3410-16-P